DEPARTMENT OF STATE

[Public Notice 11050]

Office of the Chief of Protocol; Gifts to Federal Employees From Foreign Government Sources Reported to Employing Agencies in Calendar Year 2018

The Office of the Chief of Protocol, Department of State, submits the following comprehensive listing of the statements which, as required by law, federal employees filed with their employing agencies during calendar year 2018 concerning gifts received from foreign government sources. The compilation includes reports of both tangible gifts and gifts of travel or travel expenses of more than minimal value, as defined by the statute. Also included are gifts received in previous years including one in 2010, one in 2012, 17 in 2013, two in 2014, two in 2015, and 34 in 2017. These latter gifts are being reported in this year's report for calendar year 2018 because the Office of the Chief of Protocol, Department of State, did not receive the relevant information to include them in earlier reports. Agencies not listed in this report either did not receive relevant gifts during the calendar year or did not respond to the State Department's Office of the Chief of Protocol's request for data.

Publication of this listing in the Federal Register is required by Section 7342(f) of Title 5, United States Code, as added by Section 515(a)(1) of the Foreign Relations Authorization Act, Fiscal Year 1978 (Pub. L. 95-105, August 17, 1977, 91 Stat. 865).

Dated: February 6, 2020.
William E. Todd,
Deputy Under Secretary for Management, U.S. Department of State.

Agency: The White House—Executive Office of the President
[Report of Tangible Gifts Furnished by the White House—Executive Office of the President]
Name and title of person accepting the gift on behalf of the U.S. Government | Gift, date of acceptance on behalf of the U.S. Government, estimated value, and current disposition or location | Identity of foreign donor and government | Circumstances justifying acceptance
The Honorable Donald J. Trump, President of the United States | Medal, gold tone metal disk. Rec'd—1/1/2018. Est. value—$625.00. Disposition—Transferred to National Archives Records Administration (NARA) | Gul Nabi Tribal Leader, Logar Province, Afghanistan | Non-acceptance would cause embarrassment to donor and U.S. Government.
The Honorable Donald J. Trump, President of the United States | Hickory golf wooden putter with engravings. Rec'd—1/25/2018. Est. value—$450.00. Disposition—Transferred to NARA | Tarzisius Caviezel, Mayor of Davos, Switzerland | Non-acceptance would cause embarrassment to donor and U.S. Government.
The Honorable Donald J. Trump, President of the United States | Black leather Chelsea boots from R.M. Williams. Rec'd—2/23/2018. Est. value—$545.00. Disposition—Transferred to NARA | The Honorable Malcolm Turnbull, Prime Minister of Australia | Non-acceptance would cause embarrassment to donor and U.S. Government.
The Honorable Donald J. Trump, President of the United States | Statue, “The Mother” depicting a female with a headdress and holding an infant. Rec'd—3/1/2018. Est. value—$1,660.00. Disposition—Transferred to NARA | His Excellency Vu Tien Loc, President of the Vietnam Chamber of Commerce and Industry | Non-acceptance would cause embarrassment to donor and U.S. Government.
The Honorable Donald J. Trump, President of the United States | Stone block, quasi rectangular, recognizing Jerusalem as the capital of Israel. Rec'd—3/5/2018. Est. value—$600.00. Disposition—Transferred to NARA | His Excellency Benjamin Netanyahu, Prime Minister of Israel | Non-acceptance would cause embarrassment to donor and U.S. Government.
The Honorable Donald J. Trump, President of the United States | Footed bowl, clear crystal, with American/Irish flags. Rec'd—3/15/2018. Est. value—$3,800.00. Disposition—Transferred to NARA | His Excellency Leo Varadkar, Prime Minister of Ireland | Non-acceptance would cause embarrassment to donor and U.S. Government.
The Honorable Donald J. Trump, President of the United States | Portrait of President Trump with golden frame and gold tone inner edge. Rec'd—4/23/2018. Est. value—$3,100.00. Disposition—Transferred to NARA | His Excellency Nguyen Xuan Phuc, Prime Minister of Vietnam | Non-acceptance would cause embarrassment to donor and U.S. Government.
The Honorable Donald J. Trump, President of the United States | Golf bag, Louis Vuitton, vinyl, brown with beige letters and Photographs, black and white on metal, 7 soldiers standing before U.S. flag. Rec'd—4/24/2018. Est. value—$8,275.00. Disposition—Transferred to NARA | His Excellency Emmanuel Macron, President of France | Non-acceptance would cause embarrassment to donor and U.S. Government.
The Honorable Donald J. Trump, President of the United States | Eating ground mat plus three cushions and leather panels. Rec'd—4/30/2018. Est. value—$450.00. Disposition—Transferred to NARA | His Excellency Muhammadu Buhari, President of Nigeria | Non-acceptance would cause embarrassment to donor and U.S. Government.
The Honorable Donald J. Trump, President of the United States | Miniature replica in silver of the Registan Ensemble. Rec'd—5/16/2018. Est. value—$2,950.00. Disposition—Transferred to NARA | His Excellency Shavkat Mirziyoyev, President of Uzbekistan | Non-acceptance would cause embarrassment to donor and U.S. Government.
The Honorable Donald J. Trump, President of the United States | Print, limited edition, by Joon-Kwan Kim, depicting white sky over a range of hills. Rec'd—5/22/2018. Est. value—$1,890.00. Disposition—Transferred to NARA | His Excellency Moon Jae-In, President of the Republic of Korea | Non-acceptance would cause embarrassment to donor and U.S. Government.
The Honorable Donald J. Trump, President of the United States | White marble sculpture of a beluga whale. Rec'd—6/8/2018. Est. value—$470.00. Disposition—Transferred to NARA | The Right Honorable Justin Trudeau P.C. M.P., Prime Minister of Canada | Non-acceptance would cause embarrassment to donor and U.S. Government.
The Honorable Donald J. Trump, President of the United States | Document, facsimile, two printed pages issued 1783 by Queen Mary of Portugal, in mat with molded gold tone frame and Vases, Vista Alegre of Portugal, porcelain. Rec'd—6/27/2018. Est. value—$2,270.00. Disposition—Transferred to NARA | His Excellency Marcelo Rebelo de Sousa, President of Portugal | Non-acceptance would cause embarrassment to donor and U.S. Government.
The Honorable Donald J. Trump, President of the United States | Sterling cufflinks with a purple ruby within a presentation box. Rec'd—7/30/2018. Est. value—$465.00. Disposition—Transferred to NARA | His Excellency Giuseppe Conte, Prime Minister of Italy | Non-acceptance would cause embarrassment to donor and U.S. Government.
The Honorable Donald J. Trump, President of the United States | FIFA World Cup collector's box with 12 round silver medallions. Rec'd—8/19/2018. Est. value—$1,500.00. Disposition—Transferred to NARA | His Excellency Vladimir Putin, President of Russia | Non-acceptance would cause embarrassment to donor and U.S. Government.
The Honorable Donald J. Trump, President of the United States | Artwork, gold-plated camel standing near a watering hole with palm trees. Rec'd—10/3/2018. Est. value—$2,650.00. Disposition—Transferred to NARA | Salman bin Abd al-Aziz Al Saud, Custodian of the Two Holy Mosques, King of Saudi Arabia | Non-acceptance would cause embarrassment to donor and U.S. Government.
The Honorable Donald J. Trump, President of the United States | Vase, “Cloisonne Moon Flask,” made in Beijing. Rec'd—12/2/2018. Est. value—$2,100.00. Disposition—Transferred to NARA | His Excellency Xi Jinping, President of China | Non-acceptance would cause embarrassment to donor and U.S. Government.
Mrs. Melania Trump, First Lady of the United States | Jewelry set, gilt silver and carnelian with 2 cuff bracelets, rings, pair of earrings, and a necklace. Rec'd—1/16/2018. Est. value—$780.00. Disposition—Transferred to NARA | His Excellency Nursultan Nazarbayev, President of Kazakhstan | Non-acceptance would cause embarrassment to donor and U.S. Government.
Mrs. Melania Trump, First Lady of the United States | Tunic over-garment by Mouftah el Chark Fashion. Rec'd—1/23/2018 Est. value—$450.00. Disposition—Transferred to NARA | His Excellency, Gabriel Issa, Ambassador of Lebanon to the United States | Non-acceptance would cause embarrassment to donor and U.S. Government.
Mrs. Melania Trump, First Lady of the United States | Clutch, Givenchy of Paris, made in Italy, beige silk in glossy silver tone frame. Rec'd—4/24/2018. Est. value—$850.00. Disposition—Transferred to NARA | Mrs. Brigitte Macron, Spouse of the President of France | Non-acceptance would cause embarrassment to donor and U.S. Government.
Mrs. Melania Trump, First Lady of the United States | Chair, Shosha Kamal Design House, with a scarab beetle design on the back made from polished brass and Chair, Shosha Kamal Design House, with a papyrus flower design made from polished brass. Rec'd—10/6/2018. Est. value—$10,000.00. Disposition—Transferred to NARA | His Excellency Abdel Fattah Al Sisi, President of Egypt | Non-acceptance would cause embarrassment to donor and U.S. Government.
Mrs. Melania Trump, First Lady of the United States | Artwork, bowl and frame ensemble, by Jay Strongwater. Rec'd—5/29/2018. Est. value—$2,000.00. Disposition—Transferred to NARA | His Highness Prince Khalid bin Abdullah, Crown Prince of Saudi Arabia | Non-acceptance would cause embarrassment to donor and U.S. Government.
Mrs. Melania Trump, First Lady of the United States | Candle prickets with a brass saucer. Rec'd—6/26/2018. Est. value—$1,010.00. Disposition—Transferred to NARA | Her Majesty Rania Al Abdullah, Queen of Jordan | Non-acceptance would cause embarrassment to donor and U.S. Government.
Mrs. Melania Trump, First Lady of the United States | Clutch by Delvaux of Belgium. Rec'd—7/11/2018. Est. value—$1,280.00. Disposition—Transferred to NARA | Ms. Amélie Derbaudrenghien, Partner of the Prime Minister of Belgium | Non-acceptance would cause embarrassment to donor and U.S. Government.
Mrs. Melania Trump, First Lady of the United States | Nymphenburg design plates, 6, each bearing green Nymphenburg crowned shield emblem. Rec'd—5/4/2018. Est. value—$23,500.00. Disposition—Transferred to NARA | His Highness Sheikh Tamim bin Hamad Al Thani, Amir of Qatar | Non-acceptance would cause embarrassment to donor and U.S. Government.
Mrs. Melania Trump, First Lady of the United States | Bed cover, “suzani,” displaying a floral pattern. Rec'd—5/16/2018. Est. value—$4,200.00. Disposition—Transferred to NARA | His Excellency Shavkat Mirziyoyev, President of Uzbekistan | Non-acceptance would cause embarrassment to donor and U.S. Government.
Mrs. Melania Trump, First Lady of the United States | Earrings, Leitao & Irmao of Portugal. Rec'd—6/28/2018. Est. value—$1,070.00. Disposition—Transferred to NARA | His Excellency Marcelo Rebelo de Sousa, President of Portugal | Non-acceptance would cause embarrassment to donor and U.S. Government.
Mrs. Melania Trump, First Lady of the United States | Statue, cold cast bronze, depicting a walking elephant with a tree. Rec'd—8/27/2018. Est. value—$1,300.00. Disposition—Transferred to NARA | Her Excellency Margaret Kenyatta, First Lady of Kenya | Non-acceptance would cause embarrassment to donor and U.S. Government.
Mrs. Melania Trump, First Lady of the United States | Boxes, 2, ebony engraved with African animals. Rec'd—10/4/2018. Est. value—$605.00. Disposition—Transferred to NARA | The Honorable Gertrude Mutharika, First Lady of Malawi | Non-acceptance would cause embarrassment to donor and U.S. Government.
Mrs. Melania Trump, First Lady of the United States | Kente cloth, featuring bands of geometrics in several colors. Rec'd—10/11/2018. Est. value—$540.00. Disposition—Transferred to NARA | Osabarimba Kwesi Atta II, Paramount Chief of Ghana | Non-acceptance would cause embarrassment to donor and U.S. Government.
The Honorable Jared Kushner, Assistant to the President and Senior Advisor | Painting, oil on canvas, depicting 3 major snow-covered mountain peaks. Rec'd—1/16/2018. Est. value—$3,400.00. Disposition—Transferred to NARA | His Excellency Nursultan Nazarbayev, President of Kazakhstan | Non-acceptance would cause embarrassment to donor and U.S. Government.
The Honorable Jared Kushner, Assistant to the President and Senior Advisor | Box, rectangular with hinged lid, decorated with 90% silver patterns. Rec'd—8/1/2018. Est. value—$450.00. Disposition—Transferred to NARA | The Honorable Kamal Abbas, General Coordinator of the Center for Trade Unions & Workers' Service, Egypt | Non-acceptance would cause embarrassment to donor and U.S. Government.
The Honorable Jared Kushner, Assistant to the President and Senior Advisor | Bracelets, 2, within a box displaying the cipher of the King of Jordan. Rec'd—9/25/2018. Est. value—$1,500.00. Disposition—Purchased | Her Majesty Rania Al Abdullah, Queen of Jordan | Non-acceptance would cause embarrassment to donor and U.S. Government.
The Honorable Ivanka Trump, Assistant to the President and Advisor | Bracelets, 2, within a box displaying the cipher of the King of Jordan. Rec'd—9/25/2018. Est. value—$1,685.00. Disposition—Purchased | Her Majesty Rania Al Abdullah, Queen of Jordan | Non-acceptance would cause embarrassment to donor and U.S. Government.
The Honorable John Kelly, Assistant to the President and Chief of Staff | Painting of 4 horseman with bows hunting deer. Rec'd—5/16/2018. Est. value—$600.00. Disposition—Pending Transfer to General Services | His Excellency Shavkat Mirziyoyev, President of Uzbekistan | Non-acceptance would cause embarrassment to donor and U.S. Government.
The Honorable Lawrence Kudlow, Assistant to the President for Economic Policy | Vase, silver-plate, with six-lobed scalloped flaring rim over waisted neck. Rec'd—5/16/2018. Est. value—$430.00. Disposition—Unknown, pending decision in the Gift Office | His Excellency Shavkat Mirziyoyev, President of Uzbekistan | Non-acceptance would cause embarrassment to donor and U.S. Government.

Agency: The Executive Office of the Vice President
[Report of Tangible Gifts Furnished by the Executive Office of the Vice President]
Name and title of person accepting the gift on behalf of the U.S. Government | Gift, date of acceptance on behalf of the U.S. Government, estimated value, and current disposition or location | Identity of foreign donor and government | Circumstances justifying acceptance
The Honorable Michael R. Pence, Vice President of the United States | Rug, Uzbek, silk pile, repeating field pattern of diamonds against ivory-color field between rows of hexagons joined by bars, surrounded by 7 borders of which the fourth predominates, 1.76 x 1.20 meters, in presentation box. Rec'd—5/16/2018. Est. value—$1,900.00. Disposition—Transferred to NARA | Mrs. Ziroat Mirziyoyeva, Spouse of the President of Uzbekistan | Non-acceptance would cause embarrassment to donor and U.S. Government.
The Honorable Michael R. Pence, Vice President of the United States | Hat, Panama style, “Montecristi,” with black ribbon band, made in Ecuador by Signes, in locking carrying case with silver plaque stating “Lenin Moreno Garces/Presidente Constitucional de la Republica de Ecuador/Rocio Gonzalez de Moreno.” Rec'd—6/28/2018. Est. value—$960.00. Disposition—Transferred to NARA | His Excellency Lenin Moreno, President of Ecuador | Non-acceptance would cause embarrassment to donor and U.S. Government.
The Honorable Michael R. Pence, Vice President of the United States | Vase, cobalt blue porcelain cylinder with gilt rim, tapering at bottom to shallow collar, 9⅛″ high x 5⅝″ diameter, bottom incised “310416PN,” tagged as gilded at Sevres and marked as a gift of the French President, in presentation box. Rec'd—4/25/2018. Est. value—$680.00. Disposition—Transferred to NARA | His Excellency Emmanuel Macron, President of France | Non-acceptance would cause embarrassment to donor and U.S. Government.
The Honorable Michael R. Pence, Vice President of the United States | Menorah, made of blackened steel, consisting of three graduated “C” curves on medial post enveloped in spiral twisting vines plus 14 ellipsoid leaves, 3 bifurcated roots emanating from bottom of post spreading out over round base, tagged “Created from a rocket that landed in Israel July 2014” and tagged to Pence from Isaac Herzog, dated “Mar. 2018.” Rec'd—3/5/2018. Est. value—$465.00. Disposition—Transferred to NARA | His Excellency Isaac Herzog, Chairman of the Labour Party of Israel | Non-acceptance would cause embarrassment to donor and U.S. Government.
The Honorable Michael R. Pence, Vice President of the United States | Desk clock, by William & Son of London, rectangular sterling silver case with zigzag near top and bottom, copying the flag of Bahrain, bordering radiant lines and concentric gold circles surrounding round clock face having mother-of-pearl panels plus gold diamond shapes indicating hours, in bespoke William & Son presentation case. Rec'd—11/20/2017. Est. value—$5,730.00. Disposition—Destroyed per USSS Policy | His Royal Highness, Crown Prince Salman Bin Hamad Al Khalifa, First Deputy Prime Minister and Deputy Supreme Commander of the Bahrain Defense Force | Non-acceptance would cause embarrassment to donor and U.S. Government.
The Honorable Michael R. Pence, Vice President of the United States | Embroidery, silk on gray textile, depicting male and female seated on a carpet, male playing a stringed musical instrument, a baby in a bed in left foreground, in molded silver tone frame, in zippered nylon carrying bag. Accompanying brochure states title as “Family” by Gulnazym Omirzak of Kazakhstan. Rec'd—1/16/2018. Est. value—$570.00. Disposition—Transferred to NARA | His Excellency Nursultan Nazarbayev, President of Kazakhstan | Non-acceptance would cause embarrassment to donor and U.S. Government.
The Honorable Michael R. Pence, Vice President of the United States | Box, Egyptian, silver, stamped in Arabic as 900 grade silver, hexagonal, beveled hinged lid displaying centered blank roundel rounded surrounded by 6 four-lobed cartouches of foliage, bordered by 6 trapezoids of foliate engraving, 3-lobed tab finger grip, similar engraved designs on outside walls and feet, interior lined in light-color wood, 2¼′h x 5′w x 4½′d, in presentation box. Rec'd—1/20/2018. Est. value—$430.00. Disposition—Transferred to NARA | His Excellency Abdel Fattah el-Sisi, President of Egypt | Non-acceptance would cause embarrassment to donor and U.S. Government.
The Honorable Michael R. Pence, Vice President of the United States | Box, silver-plate, square, removable lid displaying applied repeating silver calligraphy, reportedly initials of Jordanian king, interior lined in black walnut, lid underside with affixed gold tone crown over king's cipher, in presentation box, tied with gray ribbon securing a polished pierce cut copper calligraphic symbol. Rec'd—1/20/2018. Est. value—$440.00. Disposition—Transferred to NARA | His Majesty Abdullah II ibn Al Hussein, King of Jordan | Non-acceptance would cause embarrassment to donor and U.S. Government.
The Honorable Michael R. Pence, Vice President of the United States | Menorah, having 9 beige stone quasi-quadrate sockets with chamfered design of varying sizes, one on left being higher than the others, on brass tone rods secured in quasi-rectangular beige stone block having polished contoured top, set into plinth of apparent olive wood with navy blue velveteen-like top, front tagged to Michael Pence from the Western Wall Heritage Foundation, overall 11½″ h x 16″ w x 5⅛″ d, plus clear plastic cover fitting onto plinth, in box. Rec'd—1/28/2018. Est. value—$550.00. Disposition—Transferred to NARA | Rabbi Shmuel Rabinovitch, Rabbi of the Western Wall, Israel | Non-acceptance would cause embarrassment to donor and U.S. Government.
The Honorable Michael R. Pence, Vice President of the United States | Ink/paint brushes, grouping of 2 in shadowbox frame of walnut-type hard wood, 29½″ x 13¾″, one brush 21″ long of white hairs secured in turned hardwood knop on light-color wood handle displaying inked tree branch near end with ring knop and triple-graduated knops at end, plus black silk loop, other brush 16″ long of brown hairs, secured in tapered hardwood “collar,” on light-color wood handle displaying undulating spirals, handle end of 4 graduated knops, one in red, one in green, plus blue silk loop, in brown suede-type presentation box. Rec'd—2/09/2018. Est. value—$980.00. Disposition—Displayed in the Second Lady's Office | His Excellency Moon Jae-in, President of the Republic of Korea | Non-acceptance would cause embarrassment to donor and U.S. Government.
The Honorable Michael R. Pence, Vice President of the United States | Sculpture, Kazakh, bronze, depicting “kokpar” game with five men on encircling horses pulling at a headless goat skin, mounted on a quasi-round polished jasper slab, overall 6″ high x 10-11″ wide, in bespoke presentation box clad in leather, including three triangles of scrollwork. Rec'd—1/16/2018. Est. value—$2,950.00. Disposition—Transferred to NARA | His Excellency Nursultan Nazarbayev, President of Kazakhstan | Non-acceptance would cause embarrassment to donor and U.S. Government.
Mrs. Karen Pence, Second Lady of the United States | Bed cover, silk on silk hand-embroidered, displaying bursting red pomegranates on green leafy vines against ivory-color background, 78″ x 54″, in silk-clad presentation box. Rec'd—5/16/2018. Est. value—$440.00. Disposition—Transferred to NARA | Mrs. Ziroat Mirziyoyeva, Spouse of the President of Uzbekistan | Non-acceptance would cause embarrassment to donor and U.S. Government.
Mrs. Karen Pence, Second Lady of the United States | Hat, Panama style, “Montecristi,” with tan leather band, made in Ecuador by Signes, in locking carrying case with silver plaque stating “Lenin Moreno Garces/Presidente Constitucional de la Republica de Ecuador/Rocio Gonzalea de Moreno.” Rec'd—6/28/2018. Est. value—$940.00. Disposition—Transferred to NARA | Mrs. Rocio Gonzalez de Moreno, First Lady of Ecuador | Non-acceptance would cause embarrassment to donor and U.S. Government.

Agency: The Department of State
[Report of Tangible Gifts Furnished by the Department of State]
Name and title of person accepting the gift on behalf of the U.S. Government | Gift, date of acceptance on behalf of the U.S. Government, estimated value, and current disposition or location | Identity of foreign donor and government | Circumstances justifying acceptance
The Honorable Michael R. Pompeo, Secretary of State of the United States | Pilot Pen. Rec'd—4/30/2018. Est. value—$1,400.00. Disposition—Transferred to the General Services Administration (GSA) | His Excellency Taro Kono, Minister of Foreign Affairs of Japan | Non-acceptance would cause embarrassment to donor and U.S. Government.
The Honorable Michael R. Pompeo, Secretary of State of the United States | Bronze and Silver Coins. Rec'd—4/30/2018. Est. value—$490.00. Disposition—Transferred to GSA | His Majesty Abdullah II ibn Al Hussein, King of Jordan | Non-acceptance would cause embarrassment to donor and U.S. Government.
The Honorable Michael R. Pompeo, Secretary of State of the United States | Custom Sculpture of Rock Masses by Emirati Artist Mattar Bin Lahej. Rec'd—5/14/2018. Est. value—$490. Disposition—Transferred to GSA | His Highness Sheikh Abdullah bin Zayed Al Nahyan, Minister of Foreign Affairs of the United Arab Emirates | Non-acceptance would cause embarrassment to donor and U.S. Government.
The Honorable Michael R. Pompeo, Secretary of State of the United States | Waldmann Sterling Silver Pen. Rec'd—5/14/2018. Est. value—$420.00. Disposition—Transferred to GSA | His Excellency Jacek Czaputowicz, Minister of Foreign Affairs of Poland | Non-acceptance would cause embarrassment to donor and U.S. Government.
The Honorable Michael R. Pompeo, Secretary of State of the United States | Carved Wooden Table with Matching Set of Chairs. Rec'd—5/24/2018. Est. value—$1,580.00. Disposition—Pending transfer to GSA | His Excellency Shavkat Mirziyoyev, President of Uzbekistan | Non-acceptance would cause embarrassment to donor and U.S. Government.
The Honorable Michael R. Pompeo, Secretary of State of the United States | Painting by Moldovan Artist and Bottle of Moldovan Cognac. Rec'd—6/25/2018. Est. value—$1,060.00. Disposition—Transferred to GSA | His Excellency Pavel Filip, Prime Minister of Moldova | Non-acceptance would cause embarrassment to donor and U.S. Government.
The Honorable Michael R. Pompeo, Secretary of State of the United States | Bronze Seal Statue on Marble Base. Rec'd—7/9/2018. Est. value—$1,300.00. Disposition—Transferred to GSA | His Highness Mohammed bin Zayed Al Nahyan, Crown Prince of the United Arab Emirates | Non-acceptance would cause embarrassment to donor and U.S. Government.
The Honorable Michael R. Pompeo, Secretary of State of the United States | A.R.E. Crystal Commemorative Statue, Mother of Pearl Backgammon Set, and two books: The Crimes of the Brotherhood Terrorist Organization (one in English and the other in Arabic) Rec'd—7/25/2018, 2018. Est. value—$520.00. Disposition—Pending | General Abbas Kamil, Director of Egyptian General Intelligence Service | Non-acceptance would cause embarrassment to donor and U.S. Government.
The Honorable Michael R. Pompeo, Secretary of State of the United States | 8′x10′ Wool Carpet. Rec'd—8/1/2018. Est. value—$2,700. Disposition—Transferred to GSA | His Excellency Ashraf Ghani, President of Afghanistan | Non-acceptance would cause embarrassment to donor and U.S. Government.
The Honorable Michael R. Pompeo, Secretary of State of the United States | Traditional Indonesian Dagger. Rec'd—8/6/2018. Est. value—$1,560.00. Disposition—Transferred to GSA | His Excellency Joko Widodo, President of Indonesia | Non-acceptance would cause embarrassment to donor and U.S. Government
The Honorable Michael R. Pompeo, Secretary of State of the United States | Gold-plated Replica Mausoleum, Rec'd—9/17/2018. Est. value—$685.00. Disposition—Transferred to GSA | His Excellency Nasser Bourita, Minister of Foreign Affairs and International Cooperation of Morocco | Non-acceptance would cause embarrassment to donor and U.S. Government
The Honorable Michael R. Pompeo, Secretary of State of the United States | Statue of a Woman in Glass Case and Cartier Ballpoint Pen. Rec'd—10/16/2018. Est. value—$730.00. Disposition—Transferred to GSA | His Excellency Adel al-Jubeir, Minister of State for Foreign Affairs of Saudi Arabia | Non-acceptance would cause embarrassment to donor and U.S. Government.
The Honorable Michael R. Pompeo, Secretary of State of the United States | Tie box and Talarico Tie, and Model of Bell Tower. Rec'd—6/26/2018. Est. value—$495.00. Disposition—Transferred to GSA | His Excellency Sheikh Mohammed bin Abd al-Rahman Al Thani, Deputy Prime Minister and Minister of Foreign Affairs of Qatar | Non-acceptance would cause embarrassment to donor and U.S. Government.
The Honorable Michael R. Pompeo, Secretary of State of the United States | Black Body Cartier Ball Point Pen With Blue Sapphire Tip In Red Leather Presentation Box. Rec'd—10/16/2018. Est. value—$440.00. Disposition—Transferred to GSA | His Excellency Abdel Al-Jubeir, Minister of State for Foreign Affairs of Saudi Arabia | Non-acceptance would cause embarrassment to donor and U.S. Government.
The Honorable John D. Sullivan, Deputy Secretary of State of the United States | Black Lacquer Pen with Golden Geese Design. Rec'd—03/16/2018. Est. value—$2,389.00. Disposition—Transferred to GSA | His Excellency Taro Kono, Minister of Foreign Affairs of Japan | Non-acceptance would cause embarrassment to donor and U.S. Government.
The Honorable Alice Wells, Assistant Secretary of State for South and Central Asian Affairs | Soukhin Pearls 2 Strands of 49 Pearls Each 9.5-10.5 Mm. Rec'd—12/01/2018. Est. value—$490. Disposition—Transferred to GSA | The Honorable Mohammad Ziauddin, Ambassador of Bangladesh to the United States | Non-acceptance would cause embarrassment to donor and U.S. Government.
The Honorable Kirsten D. Madison, Assistant Secretary of State for International Narcotics and Law Enforcement Affairs | Traditional Bian Embroidered Hand-made Silk Scroll. Rec'd 9/13/2018. Est. value—$450.00. Disposition—Transferred to GSA | Xu Lingyi, Deputy Secretary of the Central Commission for Discipline Inspection of China | Non-acceptance would cause embarrassment to donor and U.S. Government.
Mr. Steven Fagin, Consul General of Iraq | Persian Silk Carpet 2′x3′ Center Medallion Rug. Rec'd—10/29/2018. Est. value—$500.00. Disposition—Transferred to GSA | Sheik Jafar, 70th Unit Peshmerga Commander | Non-acceptance would cause embarrassment to donor and U.S. Government.
The Honorable Sean P. Lawler, Chief of Protocol of the United States | Omega Watch in White Box. Rec'd 10/11/2018. Est. value—$780.00. Disposition—Transferred to GSA | His Majesty Abdullah II ibn Al Hussein, King of Jordan | Non-acceptance would cause embarrassment to donor and U.S. Government.
Ms. Mary-Kathryn Fisher, Assistant Chief of Protocol for Visits | Round Faced Personalized Tissot Watch. Rec'd—10/11/2018. Est. value—$1,270.00. Disposition—Transferred to GSA | His Majesty Abdullah II Ibn Al Hussein, King of Jordan | Non-acceptance would cause embarrassment to donor and U.S. Government.
Ms. Anny Vu, Political Officer | Tissot Swiss Watch. Rec'd—10/11/2018. Est. value—$770.00. Disposition—Transferred to GSA | His Majesty Abdullah II ibn Al Hussein King of Jordan | Non-acceptance would cause embarrassment to donor and U.S. Government.
Mr. Brian Phelps, Political Officer | Conquest Round Black Face Longiness Watch. Rec'd—11/20/2018. Est. value—$1,780.00. Disposition—Transferred to GSA | Ahmad Al-Habashneh, Third Secretary, Embassy of Jordan to the United States | Non-acceptance would cause embarrassment to donor and U.S. Government.
Ms. Asel Roberts, Deputy Assistant Chief of Protocol for Visits | Cuff Bracelet With Three Rings and Earrings. Rec'd—3/6/2018. Est. value—$690.00. Disposition—Transferred to GSA | The Honorable Erzan Kazykhanos, Ambassador of Kazakhstan to the United States | Non-acceptance would cause embarrassment to donor and U.S. Government.
State Department Employee | 18k Gold DuPont Fountain Pen. Rec'd—10/01/2018. Est. value—$780.00. Disposition—Transferred to GSA | The Embassy of Moldova to the United States | Non-acceptance would cause embarrassment to donor and U.S. Government.

Agency: The Administrative Office of the United States Courts
[Report of Gifts of Travel Furnished by the Administrative Office of the United States Courts]
Name and title of person accepting the gift on behalf of the U.S. Government | Gift, date of acceptance on behalf of the U.S. Government, estimated value, and current disposition or location | Identity of foreign donor and government | Circumstances justifying acceptance
The Honorable John G. Roberts, Jr., Chief Justice of the United States | Mother of Pearl Jewelry Box. Rec'd—12/10/2018. Est. value—$443.00. Disposition—On official display | Supreme Court of Korea, Republic of Korea | Non-acceptance would cause embarrassment to donor and U.S. Government.

Agency: The Federal Communications Commission
[Report of Travel Gifts Furnished by the Federal Communications Commission]
Name and title of person accepting the gift on behalf of the U.S. Government | Gift, date of acceptance on behalf of the U.S. Government, estimated value, and current disposition or location | Identity of foreign donor and government | Circumstances justifying acceptance
Mr. Martin Doczkat, Chief, Technical Analysis Branch | TRAVEL: Local transportation, meals, and hotel accommodation in connection with participation as a speaker at the GERoNiMO Consortium Meeting. Rec'd—2/5/2018. Est. value—$500.00. Disposition—N/A | Dr. Elisabeth Cardis, ISGlobal, GERoNiMO, Barcelona, Spain | Non-acceptance would cause embarrassment to donor and U.S. Government.
Mr. Matthew Berry, Chief of Staff, Office of Chairman Pai | TRAVEL: Local transportation, meals, and hotel accommodation in connection with participation as a speaker at the CRC 13th International Regulatory Workshop. Rec'd—7/17/2018. Est. value—$700.00. Disposition—N/A | Alejandro Delgado, Adviser, Commission for Communications Regulation of Colombia | Non-acceptance would cause embarrassment to donor and U.S. Government.

Agency: Central Intelligence Agency
[Report of Tangible Gifts Furnished by the Central Intelligence Agency]
Name and title of person accepting the gift on behalf of the U.S. Government | Gift, date of acceptance on behalf of the U.S. Government, estimated value, and current disposition or location | Identity of foreign donor and government | Circumstances justifying acceptance
The Honorable Michael R. Pompeo, Director of the CIA | Leather table cover, rug and pillow covers. Rec'd—2/4/2018. Est. value—$500.00. Disposition—Pending transfer to GSA | 5 U.S.C. 7342(f)(4) | Non-acceptance would cause embarrassment to donor and U.S. Government.
The Honorable Michael R. Pompeo, Director of the CIA | Gold and ivory dagger in leather case. Rec'd—3/27/2018. Est. value—$500.00. Disposition—Pending transfer to GSA | 5 U.S.C. 7342(f)(4) | Non-acceptance would cause embarrassment to donor and U.S. Government.
The Honorable Michael R. Pompeo, Director of the CIA | Chopard pen. Rec'd—4/3/2018. Est. value—$500.00. Disposition—Pending transfer to GSA | 5 U.S.C. 7342(f)(4) | Non-acceptance would cause embarrassment to donor and U.S. Government.
The Honorable Michael R. Pompeo, Director of the CIA | Five silver coins in red case. Rec'd—4/3/2018. Est. value—$500.00. Disposition—Pending transfer to GSA | 5 U.S.C. 7342(f)(4) | Non-acceptance would cause embarrassment to donor and U.S. Government.
The Honorable Gina Haspel, Director of the CIA | Tan and red oriental rug. Rec'd—6/13/2018. Est. value—$505.00. Disposition—Pending transfer to GSA | 5 U.S.C. 7342(f)(4) | Non-acceptance would cause embarrassment to donor and U.S. Government.
The Honorable Gina Haspel, Director of the CIA | Silver ship, cufflinks. incense holder, and frankincense. Rec'd—7/12/2018. Est. value—$575.00. Disposition—Pending transfer to GSA | 5 U.S.C. 7342(f)(4) | Non-acceptance would cause embarrassment to donor and U.S. Government.
The Honorable Gina Haspel, Director of the CIA | Engraved tan fossil on glass. Rec'd—7/12/2018. Est. value—$500.00. Disposition—Pending transfer to GSA | 5 U.S.C. 7342(f)(4) | Non-acceptance would cause embarrassment to donor and U.S. Government.
The Honorable Gina Haspel, Director of the CIA | Mounted, inert pistol and 2 coins. Rec'd—9/14/2018. Est. value—$500.00. Disposition—Pending transfer to GSA | 5 U.S.C. 7342(f)(4) | Non-acceptance would cause embarrassment to donor and U.S. Government.
The Honorable Gina Haspel, Director of the CIA | Dead sea mud gift set. Rec'd—9/19/2018. Est. value—$590.00. Disposition—Pending transfer to GSA | 5 U.S.C. 7342(f)(4) | Non-acceptance would cause embarrassment to donor and U.S. Government.
An Agency Employee | Two bottles of red wine. Rec'd—1/16/2018. Est. value—$512.00. Disposition—Pending purchase by employee | 5 U.S.C. 7342(f)(4) | Non-acceptance would cause embarrassment to donor and U.S. Government.
An Agency Employee | Purple silk rug. Rec'd—1/27/2018. Est. value—$400.00. Disposition—Pending purchase by employee | 5 U.S.C. 7342(f)(4) | Non-acceptance would cause embarrassment to donor and U.S. Government.
An Agency Employee | Four silver coins. Rec'd—1/29/2018. Est. value—$3,000.00. Disposition—On official display | 5 U.S.C. 7342(f)(4) | Non-acceptance would cause embarrassment to donor and U.S. Government.
An Agency Employee | Givenchy purse. Rec'd—2/9/2018. Est. value—$990.00. Disposition—Pending transfer to GSA | 5 U.S.C. 7342(f)(4) | Non-acceptance would cause embarrassment to donor and U.S. Government.
An Agency Employee | 1 man's and 1 woman's Movado watch. Rec'd—3/16/2018. Est. value—$400.00. Disposition—Pending destruction | 5 U.S.C. 7342(f)(4) | Non-acceptance would cause embarrassment to donor and U.S. Government.
An Agency Employee | Louis Vuitton scarf. Rec'd—3/22/2018. Est. value—$450.00. Disposition—Pending purchase by employee | 5 U.S.C. 7342(f)(4) | Non-acceptance would cause embarrassment to donor and U.S. Government.
An Agency Employee | Two carpets. Rec'd—4/9/2018. Est. value—$500.00. Disposition—Pending purchase by employee | 5 U.S.C. 7342(f)(4) | Non-acceptance would cause embarrassment to donor and U.S. Government.
An Agency Employee | Movado sport edition watch. Rec'd—4/13/2018. Est. value—$450.00. Disposition—Pending transfer to GSA | 5 U.S.C. 7342(f)(4) | Non-acceptance would cause embarrassment to donor and U.S. Government.
An Agency Employee | John Walker King George V whisky. Rec'd—5/25/2018. Est. value—$542.00. Disposition—On official display | 5 U.S.C. 7342(f)(4) | Non-acceptance would cause embarrassment to donor and U.S. Government.
An Agency Employee | Rolex Datejust watch 41mm. Rec'd—5/26/2018. Est. value—$8,000.00. Disposition—Official display | 5 U.S.C. 7342(f)(4) | Non-acceptance would cause embarrassment to donor and U.S. Government.
An Agency Employee | Woman's Rolex Datejust watch 41mm. Rec'd—5/26/2018. Est. value—$8,000.00. Disposition—Official use | 5 U.S.C. 7342(f)(4) | Non-acceptance would cause embarrassment to donor and U.S. Government.
An Agency Employee | Rolex Datejust watch 36mm. Rec'd—5/30/2018. Est. value—$8,600.00. Disposition—Official use | 5 U.S.C. 7342(f)(4) | Non-acceptance would cause embarrassment to donor and U.S. Government.
An Agency Employee | 1 man's and 1 woman's Rado Watches. Rec'd—5/30/2018. Est. value—$3,500.00. Disposition—Pending destruction | 5 U.S.C. 7342(f)(4) | Non-acceptance would cause embarrassment to donor and U.S. Government.
An Agency Employee | Gold necklace and pendant. Rec'd—6/11/2018. Est. value—$550.00. Disposition—Pending purchase by employee | 5 U.S.C. 7342(f)(4) | Non-acceptance would cause embarrassment to donor and U.S. Government.
An Agency Employee | Omega Seamaster watch. Rec'd—6/20/2018. Est. value—$3,800.00. Disposition—Pending destruction | 5 U.S.C. 7342(f)(4) | Non-acceptance would cause embarrassment to donor and U.S. Government.
An Agency Employee | 1 man's and 1 woman's Rado watch. Rec'd—7/1/2018. Est. value—$1,000.00. Disposition—Pending destruction | 5 U.S.C. 7342(f)(4) | Non-acceptance would cause embarrassment to donor and U.S. Government.
An Agency Employee | Ball man's watch. Rec'd—7/7/2018. Est. value—$2,000.00. Disposition—Pending destruction | 5 U.S.C. 7342(f)(4) | Non-acceptance would cause embarrassment to donor and U.S. Government.
An Agency Employee | Necklace, bracelet, and earrings set in box, and statue. Rec'd—7/11/2018. Est. value—$1,155.00. Disposition—Pending transfer to GSA | 5 U.S.C. 7342(f)(4) | Non-acceptance would cause embarrassment to donor and U.S. Government.
An Agency Employee | Diamond earrings. Rec'd—7/23/2018. Est. value—$1,200.00. Disposition—Pending transfer to GSA | 5 U.S.C. 7342(f)(4) | Non-acceptance would cause embarrassment to donor and U.S. Government.
An Agency Employee | Desert Falcon X watch. Rec'd—7/25/2018. Est. value—$10,000.00. Disposition—On official display | 5 U.S.C. 7342(f)(4) | Non-acceptance would cause embarrassment to donor and U.S. Government.
An Agency Employee | 2′x3′ silk rug. Rec'd—7/25/2018. Est. value—$5,000.00. Disposition—On official display | 5 U.S.C. 7342(f)(4) | Non-acceptance would cause embarrassment to donor and U.S. Government.
An Agency Employee | Glock 19 pistol. Rec'd—8/8/2018. Est. value—$476.00. Disposition—On official display | 5 U.S.C. 7342(f)(4) | Non-acceptance would cause embarrassment to donor and U.S. Government.
An Agency Employee | Two pearl necklaces, bracelet, and earrings. Rec'd—8/18/2018. Est. value—$500.00. Disposition—On official display | 5 U.S.C. 7342(f)(4) | Non-acceptance would cause embarrassment to donor and U.S. Government.
An Agency Employee | Maurice Lacroix women's watch. Rec'd—8/30/2018. Est. value—$880.00. Disposition—Pending purchase by employee | 5 U.S.C. 7342(f)(4) | Non-acceptance would cause embarrassment to donor and U.S. Government.
An Agency Employee | Necklace, ring, and earrings set. Rec'd—11/7/2018. Est. value—$500.00. Disposition—Pending transfer to GSA | 5 U.S.C. 7342(f)(4) | Non-acceptance would cause embarrassment to donor and U.S. Government.
An Agency Employee | Gold necklace, ring, earrings, and bracelet. Rec'd—11/7/2018. Est. value—$2,000.00. Disposition—Pending transfer to GSA | 5 U.S.C. 7342(f)(4) | Non-acceptance would cause embarrassment to donor and U.S. Government.
An Agency Employee | Silver and gold Ebel watch. Rec'd—11/13/2018. Est. value—$1,500.00. Disposition—On official display | 5 U.S.C. 7342(f)(4) | Non-acceptance would cause embarrassment to donor and U.S. Government.
An Agency Employee | Necklace, bracelet, watch, and corsage. Rec'd—11/18/2018. Est. value—$500.00. Disposition—Pending destruction | 5 U.S.C. 7342(f)(4) | Non-acceptance would cause embarrassment to donor and U.S. Government.
An Agency Employee | Oil painting. Rec'd—11/19/2018. Est. value—$700.00. Disposition—Pending purchase by employee | 5 U.S.C. 7342(f)(4) | Non-acceptance would cause embarrassment to donor and U.S. Government.
An Agency Employee | Tudor women's watch. Rec'd—12/18/2018. Est. value—$5,000.00. Disposition—Official use | 5 U.S.C. 7342(f)(4) | Non-acceptance would cause embarrassment to donor and U.S. Government.

Agency: The Department of Army
[Report of Tangible Gifts Furnished by the Department of Army]
Name and title of person accepting the gift on behalf of the U.S. Government | Gift, date of acceptance on behalf of the U.S. Government, estimated value, and current disposition or location | Identity of foreign donor and government | Circumstances justifying acceptance
General James Mattis, Commander of CENTCOM | Montblanc Pen. Rec'd—9/12/2012. Est. value—$935.00. Disposition—Transferred to GSA on 2/14/2018 | Brigadier General Adullah, Qatar | Non-acceptance would cause embarrassment to donor and U.S. Government.
General Joseph Votel, Commanding General, U.S. Army Central Command | Baron Philippe Men's Watch. Rec'd—1/17/2017. Est. value—$750.00. Disposition—Transferred to GSA on 2/14/2018 | Major General Hamad Bin-Ali, Chief of Staff of the Armed Forces of Qatar | Non-acceptance would cause embarrassment to donor and U.S. Government.
General Joseph Votel, Commanding General, U.S. Army Central Command | Cartouche Pendant, 18K. Rec'd—03/17/2017. Est. Value—$550.00. Disposition—Transferred to GSA on 2/14/2018 | Major General Saeed, Mabkhoot Louteya Al Ameri, Commander, United Arab Emirates Land Forces | Non-acceptance would cause embarrassment to donor and U.S. Government.
General Terrence McKenrick, Deputy Commanding General, U.S. Army Central Command | Jambiya Dagger, Silver. Rec'd—9/13/2017. Est. value—$188.97. Disposition—Purchased by recipient | Major General Saeed, Mabkhoot Louteya Al Ameri, Commander, United Arab Emirates Land Forces | Non-acceptance would cause embarrassment to donor and U.S. Government.
General John W. Nicholson, Commanding General, U.S. Army Central Command | Brass Cowbells. Rec'd—8/11/2018. Est. value—$70.00. Disposition—Purchased by recipient | Indian Foundation, India | Non-acceptance would cause embarrassment to donor and U.S. Government.
General Charles Constanza, Deputy Commanding General, 1st Armory Division | Watch, Omega DeVille. Rec'd—3/1/2018. Est. value—$3,775.00. Disposition—Transferred to GSA on 2/14/2018 | Masrour Barzani, Chancellor, Kurdistan Regional Government | Non-acceptance would cause embarrassment to donor and U.S. Government.
General Terrence McKenrick, Deputy Commanding General, U.S. Army Central Command | Black Armin Watch. Rec'd—8/9/2017. Est. value—$5,946.00. Disposition—Transferred to GSA on 2/14/2018 | General Dhafer Ashehri, Northwest Commander, Saudi Arabia Land Forces | Non-acceptance would cause embarrassment to donor and U.S. Government.
General Lloyd Austin III, Commanding General, U.S. Army Central Command | Jorg Hysek Men's Watch, Jorg Hysek Women's Watch, 18k Gold Diamond Ring. Murex Women's Watch. Jorg Hysek pen. Luxury Wooden Jewelry Presentation Box. Cerruti Silk Tie. Charriol Paris Royal White Perfume. Aigner Debut Perfume. J.T. DuPont Paris Perfume. Cargo Men's Wallet. Joseph H. Clissod Fabric (4 Yards). Dunhill Pen. Rec'd—8/1/2013. Est. value—$4,398.80. Disposition—Transferred to GSA on 2/14/2018 | Lieutenant General Ghanem Bin Shaheen Al-Ghanim, Chief of Staff, Armed Forces of Qatar | Non-acceptance would cause embarrassment to donor and U.S. Government.
General Joseph Votel, Commanding General, U.S. Army Central Command | Apple iPhone 7. Rec'd—1/17/2017. Est. value—$649.00. Disposition—Transferred to GSA on 2/14/2018 | Major General Hamad bin Ali Attiyah, Advisor to the Amir for Defense Affairs of Qatar | Non-acceptance would cause embarrassment to donor and U.S. Government.
General Lloyd Austin III, Commanding General, U.S. Army Central Command | Delsey Chatelet Hard Plus 77 CM Large 4-Wheel Spinner Suitcase. Rec'd—8/1/2013. Est. value—$330.00. Disposition—Transferred to GSA on 12/21/2017 | Major General Saeed, Mabkhoot Louteya Al Ameri, Commander, United Arab Emirates Land Forces | Non-acceptance would cause embarrassment to donor and U.S. Government.
General Lloyd Austin III, Commanding General U.S. Army Central Command | Longines: Master Collection Rose Gold Men's watch. Rec'd—5/13/2013. Est. value—$3,550.00. Disposition—Transferred to GSA on 2/14/2018 | Major General Hamad bin Ali Attiyah, Advisor to the Amir for Defense Affairs of Qatar | Non-acceptance would cause embarrassment to donor and U.S. Government.
General Lloyd Austin III, Commanding General U.S. Army Central Command | Longines: Primaluna Diamond Face Women's Watch. Rec'd—5/14/2013. Est. value—$1,895.00. Disposition—Transferred to GSA on 2/14/2018 | Major General Hamad bin Ali Attiyah, Advisor to the Amir for Defense Affairs of Qatar | Non-acceptance would cause embarrassment to donor and U.S. Government.
Major General Mitchell Kilgo | Concord Saratog Watch. Rec'd—11/20/2017. Est. value—$2,117.00. Disposition—Transferred to GSA on 2/14/2018 | Unknown | Non-acceptance would cause embarrassment to donor and U.S. Government.
Major General William B. Hickman, Deputy Commanding General, U.S. Army Central Command | Johann Strauss Edition Montblanc Pen and Ink Set. Rec'd—5/22/2017. Est. value—$816.50. Disposition—Transferred to GSA on 2/14/2018 | Indian Foundation, India | Non-acceptance would cause embarrassment to donor and U.S. Government.
Major General William B. Hickman, Deputy Commanding General, U.S. Army Central Command | 800 Series Movado Men's Watch, Stainless Steel. Rec'd—5/24/2017. Est. value—$1,195.00. Disposition—Transferred to GSA on 2/14/2018 | Major General Khaled, Saleh Al-Sabah, Commander, Kuwait Land Forces | Non-acceptance would cause embarrassment to donor and U.S. Government.
Major General William B. Hickman, Deputy Commanding General, U.S. Army Central Command | Knife/Bayonet Set. Rec'd—5/24/2017. Est. value—$518.99. Disposition—Transferred to GSA on 2/14/2018 | Major General Saeed, Mabkhoot Louteya Al Ameri, Commander, United Arab Emirates Land Forces | Non-acceptance would cause embarrassment to donor and U.S. Government.
Brigadier General Joseph W. Rank, Senior Defense Official and Defense Attaché | Cartier Messenger Bag. Rec'd—4/19/2017. Est. value—$2,660.00. Disposition—Transferred to GSA on 2/14/2018 | Matar Al Dhaheri, Deputy Minister of Defense, United Arab Emirates | Non-acceptance would cause embarrassment to donor and U.S. Government.
Brigadier General Scott Efflandt | Omega DeVille Watch. Rec'd—7/7/2017. Est. value—$2,925.00. Disposition—Purchased by recipient | Masrour Barzani, Chancellor, Kurdistan Regional Government | Non-acceptance would cause embarrassment to donor and U.S. Government.
Captain Eric Anderson | Genevoski Men's Watch. Rec'd—6/25/2015. Est. value—$500.00. Disposition—Transferred to GSA on 2/14/2018 | RADM al-Qahtani, Saudi Arabia | Non-acceptance would cause embarrassment to donor and U.S. Government.
Captain Zachary Harnish, Aide to the Deputy Commanding General, 1st Armory Division | Tissot T-Touch Expert Titanium Watch. Rec'd—3/6/2018. Est. value—$606.00. Disposition—Transferred to GSA on 2/14/2018 | Masrour Barzani, Chancellor, Kurdistan Regional Government | Non-acceptance would cause embarrassment to donor and U.S. Government.
Mr. Uli Calvo | Longines Prima Luna Women's Watch. Rec'd—11/26/2014. Est. value—$1,100.00. Disposition—Transferred to GSA on 2/14/2018 | His Excellency Salem Alshamsi, Consul General of the United Arab Emirates | Non-acceptance would cause embarrassment to donor and U.S. Government.
Mr. James Renna | Apple iPhone 6. Rec'd—7/9/2015. Est. value—$549.00. Disposition—Transferred to GSA on 2/14/2018 | Major General Al M. Al-Wahebi | Non-acceptance would cause embarrassment to donor and U.S. Government.
Unknown | Versace Men's Watch. Rec'd—Unknown. Est. value—$740.00. Disposition—Transferred to GSA on 2/14/2018 | Major General Hamad bin Ali Attiyah, Advisor to the Amir for Defense Affairs of Qatar | Non-acceptance would cause embarrassment to donor and U.S. Government.
Unknown | Lamborghini Wallet. Rec'd—5/13/2013. Est. value—$270.00. Disposition—Transferred to GSA on 12/21/2018 | Major General Hamad bin Ali Attiyah, Advisor to the Amir for Defense Affairs of Qatar | Non-acceptance would cause embarrassment to donor and U.S. Government.
Unknown | Apple iPad Mini 2, 16GB. Rec'd—7/16/2018. Est. value—$399.00. Disposition—Transferred to GSA on 2/14/2018 | Unknown | Non-acceptance would cause embarrassment to donor and U.S. Government.

Agency: The Department of Defense
[Report of Tangible Gifts Furnished by the Department of Defense]
Name and title of person accepting the gift on behalf of the U.S. Government | Gift, date of acceptance on behalf of the U.S. Government, estimated value, and current disposition or location | Identity of foreign donor and government | Circumstances justifying acceptance
The Honorable James Mattis, Secretary of Defense | Acrylic painting on canvas depicting 5 sailboats and seagulls in foreground light green water, shoreline of buildings in mid-plane under light blue/pink/greenish blue sky. Rec'd—12/20/2017. Est. value—$450.00. Disposition—Pending transfer to GSA | His Excellency Elin Suleymanov, Ambassador of Azerbaijan to the United States | Non-acceptance would cause embarrassment to donor and U.S. Government.
The Honorable James Mattis, Secretary of Defense | Curved Sword, polished blade numbered 3003 on the top edge near hilt, displaying adhesive sticker “Albidaa” secured in gold-plated handle with 2-prong hilt from Qatar. Rec'd—4/22/2017. Est. value—$1,850.00. Disposition—Pending transfer to GSA | Major General Hamad bin Ali Attiya, Advisor to the Amir for Defense Affairs of Qatar | Non-acceptance would cause embarrassment to donor and U.S. Government.
The Honorable James Mattis, Secretary of Defense | Silver and copper colored eagle statue. Rec'd—4/23/2017. Est. value—$5,750.00. Disposition—Pending transfer to GSA | Major General Hamad bin Ali Attiya, Advisor to the Amir for Defense Affairs of Qatar | Non-acceptance would cause embarrassment to donor and U.S. Government.
The Honorable James Mattis, Secretary of Defense | Bowl, round, brass clad in lapis lazuli panels of fairly uniform color and pyrite flecks, scalloped rim and root. Rec'd—4/24/2017. Est. value—$785.00. Disposition—Pending transfer to GSA | His Excellency Ashraf Ghani, President of Afghanistan | Non-acceptance would cause embarrassment to donor and U.S. Government.
The Honorable James Mattis, Secretary of Defense | Sword, steel blade inscribed “Presented by Egyptian Armed Forces,” Silver tone hilt and handle displaying Chinese-style cartouches of serpents and flowers. Rec'd—4/24/2017. Est. value—$950.00. Disposition—Pending transfer to GSA | General Sedky Sobhy, Minister of Defense of Egypt | Non-acceptance would cause embarrassment to donor and U.S. Government.
The Honorable James Mattis, Secretary of Defense | White engraved Corian w/brass inlay wall hanging. Rec'd—5/16/2017. Est. value—$1,650.00. Disposition—Pending transfer to GSA | His Highness Mohamed bin Zayed Al Nahyan, Crown Prince of Dubai, United Arab Emirates | Non-acceptance would cause embarrassment to donor and U.S. Government.
The Honorable James Mattis, Secretary of Defense | White marble box, rectangular, 8″x6″, detachable lid and outside walls displaying marquetry flowers in lapis lazuli with malachite. Rec'd—6/26/2017. Est. value—$1,000.00. Disposition—Pending transfer to GSA | His Excellency Narendra Modi, Prime Minister of India | Non-acceptance would cause embarrassment to donor and U.S. Government.
The Honorable James Mattis, Secretary of Defense | Pistol, replica flint lock with walnut stock, metal parts blackened and ornamented with brass floral inlay, in walnut presentation box, hinged lid with brass tag from Levan Izoria, Georgian MOD to James Mattis. Rec'd—11/13/2017. Est. value—$470.00. Disposition—Pending transfer to GSA | His Excellency Levan Izoria, Minister of Defense of Georgia | Non-acceptance would cause embarrassment to donor and U.S. Government.
The Honorable James Mattis, Secretary of Defense | Encased peacock artwork. Rec'd—10/20/2017. Est. value—$430.00. Disposition—Pending transfer to GSA | Her Excellency Nirmala Sitharaman, Minister of Defense of India | Non-acceptance would cause embarrassment to donor and U.S. Government.
The Honorable James Mattis, Secretary of Defense | Korean sword, polished steel blade marked to Secretary Mattis, dated “27 October 2017” in black carrying case. Rec'd—10/27/2017. Est. value—$1,900.00. Disposition—Pending transfer to GSA | The Honorable Song Young-moo, Minister of Defense of the Republic of Korea | Non-acceptance would cause embarrassment to donor and U.S. Government.
The Honorable James Mattis, Secretary of Defense | Rug, wool, hand-woven, 118″x154″ pile area excluding fringe, 195 knots sq. in. Rec'd—9/7/2018. Est. value—$2,100.00. Disposition—Pending transfer to GSA | His Excellency Ashraf Ghani, President of Afghanistan | Non-acceptance would cause embarrassment to donor and U.S. Government.
The Honorable James Mattis, Secretary of Defense | Vase, cloisonné, 10″x5½″. Gilt rim plus 3 more gilt bands, flanking waisted neck, bulbous body, flaring foot. Rec'd—11/8/2018. Est. value—$890.00. Disposition—Pending transfer to GSA | General Wei Fenghe, Minister of Defense of China | Non-acceptance would cause embarrassment to donor and U.S. Government.
The Honorable James Mattis, Secretary of Defense | Afghani rug, wool pile, hand-woven, black candelabrum motif on ivory color background plus other geometric forms in black/pink/red, surrounded by 3 chief borders and additional band of inches at top, 46″x66″ pile area. Rec'd—9/7/2018. Est. value—$400.00. Disposition—Pending transfer to GSA | His Excellency Dr. Hadullah Mohib, National Security Advisor of Afghanistan | Non-acceptance would cause embarrassment to donor and U.S. Government.
The Honorable James Mattis, Secretary of Defense | Five items: (1) Frog drum, miniature in a gold tone cast resin having 4 frogs on rim, mounted on block tagged from South Vietnam, (2) Yardage printed silk displaying assorted flowers against black, approximately 60″ x 192″, (3) Lacquer box, removable lid displaying Coppertone/silver/black mottling, (4) Book, Vietnam: Mosaic of Contrasts, (5) Artwork, half-length portrait of Mattis, made with crushed natural gemstones and minerals having a fine sand consistency in molded gemstone frame. Rec'd—1/26/2018. Est. value—$1,245.00. Disposition—Pending transfer to GSA | His Excellency Ngo Xuan Lich, Minister of Defense of Vietnam | Non-acceptance would cause embarrassment to donor and U.S. Government.
The Honorable James Mattis, Secretary of Defense | (1) Model horse-drawn coach in silver filigree, the coach topped by a crown, a bird in each top corner, footman standing on back holding up a parasol, 4 harnessed horses preceded by rider on horseback, tagged Indonesian MOD, inside glass display case, (2) Photograph of 2 rows of people standing over tag “The Visit of U.S. Secretary of Defense The H.E. James Mattis to Indonesia/Jakarta 22nd-24th 2018” in molded gold tone frame, (3) Photo album, hardcover, front cover with inset photo print stating same as in item 2, containing ten cardboard sheets with photographic pages adhered to both sides, in cardboard sleeve printed with same photograph and statement as album cover. Rec'd—1/23/2018. Est. value—$480.00. Disposition—Pending transfer to GSA | His Excellency Ryamizard Ryacudu, Minister of Defense of Indonesia | Non-acceptance would cause embarrassment to donor and U.S. Government.
The Honorable James Mattis, Secretary of Defense | (1) Plaque stating “Bahrain Defense Force” over colored roundels, over “Field Marshal Khalifa Bin Ahmed Al-Khalifa/Commander in chief of Bahrain Defense Force, (2) Curved sword, 39″ long, having polished non-fluted blade secured in a 3-prong silver tone hilt and bracket shape handle with 2 blade panels ornamented with six 8-point stars, accompanied by black leather clad sheath having engraved silver tone black scrollwork, end inscribed #4445, also gilt Bahraini sheik emblem on one side, plus white/black cord and 2 tassels. Rec'd—3/14/2018. Est. value—$640.00. Disposition—Pending transfer to GSA | His Excellency Shaikh Khalifa bin Ahmed Al Khalifa, Commander-in-Chief of Bahrain Defense Force (Field Marshal) | Non-acceptance would cause embarrassment to donor and U.S. Government.
The Honorable James Mattis, Secretary of Defense | Mini statue of the Bradenburg Gate, bisque porcelain, roofed colonnade surmounted by 4 horses pulling chariot with winged victory, in presentation box. Rec'd—6/20/2018. Est. value—$640.00. Disposition—Pending transfer to GSA | Her Excellency Ursula von der Leyen, Minister of Defense of Germany | Non-acceptance would cause embarrassment to donor and U.S. Government.
The Honorable James Mattis, Secretary of Defense | Set of wooden table and chairs (1 table and 2 stools, ornate and wooden with carved flowers), Set of 3 hexagonal wood tables, in 2 sizes, displaying carved anthemions and foliate scrollwork surrounding centered rosette in top as well as all 6 leg panels, in bespoke leatherette presentation boxes. Rec'd—6/13/2018. Est. value—$830.00. Disposition—Pending transfer to GSA | His Excellency Shavkat M. Mirziyoyev, President of Uzbekistan | Non-acceptance would cause embarrassment to donor and U.S. Government.
Lt. Colonel Mafwa Kuvbidila, J5 DDME | Wristwatch, by Concord, man's, #0320247, Saratoga model, having round black face with silver tone Roman numerals depicting II/IV/VI/VIII/X/XII, silver tone bars denoting other hours, date window at 3 o'clock position, both octagonal back and flex band of black and silver tone in presentation box. Rec'd—10/24/2017. Est. value—$2,600.00. Disposition—Pending transfer to GSA | General Abdul Rahman al-Banyan, Chief of Defense of Saudi Arabia | Non-acceptance would cause embarrassment to donor and U.S. Government.
Ms. Laura Cooper, Deputy Assistant Secretary of Defense | (1) Medallion, polished brass rounded obverse stating “The Republic of Azerbaijan/State Border Service surrounding image of quadrate post fronting map of Azerbaijan, (2) Rug, silk, 18x22=396 knots per sq. in, depicting centered asterisk within burgundy octagon with blue-gray octagon containing red/yellow/white hooks, plus red bracket arms and crosses on ivory-colored field, footed bowl plus stepped outlines in corners, surrounded by 4 borders of which the third dominates, marked “Azarbaycan”, (3) Kilim, machine woven cotton reversible displaying abstracted flower on leafy stems plus leaves/trees in red/tan/black/white, approximately 29″ x 46″ woven area, (D) Magazine, “Azerbaijan Carpets” volume 7, No. 22,2017. Rec'd—10/25/2017. Est. value—$1,055.00. Disposition—Retained by DOD on Official Display | Gazanafar Ahmadov, Director of the Azerbaijani National Mine Action Agency, Azerbaijan | Non-acceptance would cause embarrassment to donor and U.S. Government.
Ms. Kari Bingen, Principal Deputy Under Secretary for Intelligence | (1) Watch—Maurice Lacroix—Fabo Style, tagged FA1004-PVP06-1/PVD pink 4N 1 001003342, having white face of 12 engine-turned sections surrounded by black Arabic numerals, date window with gold tone aperture ring at 3 o'clock position, blue cabochon on adjustment pin, polished gold tone flex band, (2) Plaque, green/gold tone enameled bird with wings flanking 8 stars, in turn flanked by laurel leaves beneath gold tone ribbon form and over a second ribbon form stating “Military Intelligence Directorate,” all mounted against matte gray background within gold tone archway, adhered to pressboard rectangle painted medium brown, with incorporated foot. Rec'd—12/7/2017. Est. value—$1,245.00. Disposition—Pending transfer to GSA | Lt. Gen. Ruthaithy, United Arab Emirates | Non-acceptance would cause embarrassment to donor and U.S. Government.
Ms. Elisa Hensz, Chief Partner, Engagement for Middle East and Africa | Wrist watch by Gianfranco Ferre, women's #TTGF203861, round silver tone face with concentric rings overlapped by 4 diamonds within gold tone squares denoting 12/3/6/9 o'clock, gold tone bar for other hours, bevel of faux diamonds, glossy silver tone base plus band having medial gold tone line. Rec'd—4/2/2018. Est. value—$650.00. Disposition—Pending transfer to GSA | Brigadier General Abdullah Hamoudi, United Arab Emirates | Non-acceptance would cause embarrassment to donor and U.S. Government.
Inspector General, Department of Defense | Rug, wool pile, hand woven, displaying 3 complete and 2 partial rows of hexagons containing double red diamond shapes, connected by bands, alternating with diamond shapes on tan, surrounded by 8 borders of which the fourth predominates in floral lappets flanking red zigzag, 48″x63″ pile. Rec'd—1/11/2010. Est. value—$450.00. Disposition—Pending transfer to GSA | General Abdul Rahim Wardak, Minister of Defense of Afghanistan | Non-acceptance would cause embarrassment to donor and U.S. Government.
Inspector General, Department of Defense | Rug, wool pile, hand woven, 58″x48″ pile area, field displaying 3 rows of 16 hexagonal each in burgundy/mustard/green on beige surrounding by 4 primary borders, the second of burgundy rosettes on beige, the outer of zigzag on diagonals. Rec'd—6/6/2018. Est. value—$425.00. Disposition—Pending transfer to GSA | Unknown | Non-acceptance would cause embarrassment to donor and U.S. Government.
Inspector General, Department of Defense | Three sets of coins, (1) 7 sets of 3 sizes of sterling silver coins relating to Euro 1996 sports championships in soccer, XXVI Olympic Games in Atlanta sailing, boating, swimming, crew in black presentation boxes. (2) Gold 24k, one ounce, Romanian coat of arms dated 2000, 500 lei face value. (3) 90% gold, 8.64 grams, 500 lei face value, issued 1998, in plastic cases. (4) Gold 100 lei face value in plastic cases. Rec'd—6/6/2018. Est. value—$2,950.00. Disposition—Pending transfer to GSA | Unknown | Non-acceptance would cause embarrassment to donor and U.S. Government.
Mr. David Trachtenberg, Deputy Under Secretary of Defense (Policy) | Kavalan Whisky (Single Malt, Sherry Cask No. S100127028A, Bottle No. 005-5456, Soloist Single Cask Strength, Red Label, 700ml, accompanied by clear goblet, in red leatherette presentation box). Rec'd—10/31/2017. Est. value—$400.00. Disposition—Pending transfer to GSA | Pao-ku Wu, Director General of the Department of Strategic Planning, Ministry of National Defense of Taiwan | Non-acceptance would cause embarrassment to donor and U.S. Government.

Agency: The Department of Agriculture
[Report of Tangible Gifts Furnished by the Department of Agriculture]
Name and title of person accepting the gift on behalf of the U.S. Government | Gift, date of acceptance on behalf of the U.S. Government, estimated value, and current disposition or location | Identity of foreign donor and government | Circumstances justifying acceptance
The Honorable George E. Perdue III, Secretary of Agriculture | Kazakhstani chess board. Rec'd—5/1/2018. Est. value—$646.00. Disposition—On official display | His Excellency Umirzak Shukeyev, Deputy Prime Minister and Minister of Agriculture of Kazakhstan | Non-acceptance would cause embarrassment to donor and U.S. Government.

Agency: The Department of Homeland Security
[Report of Travel and Report of Tangible Gifts Furnished by the Department of Homeland Security]
Name and title of person accepting the gift on behalf of the U.S. Government | Gift, date of acceptance on behalf of the U.S. Government, estimated value, and current disposition or location | Identity of foreign donor and government | Circumstances justifying acceptance
The Honorable Kirstjen Nielsen, Secretary of Homeland Security | Burberry Cashmere Scarf. Rec'd—12/12/2017. Est. value—$425.00. Disposition—Pending GSA Transfer | Brigadier General Mohammed Al Nasser, Security Attaché, Embassy of Qatar to the United States | Non-acceptance would cause embarrassment to donor and U.S. Government.
The Honorable Kirstjen Nielsen, Secretary of Homeland Security | Cartier Mini-pen (Pink Lacquer). Rec'd—5/11/2018. Est. value—$510.00. Disposition—Report of loss | Brigadier General Mohammed Al Nasser, Security Attaché, Embassy of Qatar to the United States | Non-acceptance would cause embarrassment to donor and U.S. Government.
The Honorable Kirstjen Nielsen, Secretary of Homeland Security | Painting by artist Carmen Parra. Rec'd—9/28/2018. Est. value—$1,560.00. Disposition—Pending recipient purchase | His Excellency Marcelo Luis Ebrard, Secretary of Foreign Relations of Mexico | Non-acceptance would cause embarrassment to donor and U.S. Government.
The Honorable Kirstjen Nielsen, Secretary of Homeland Security | Fountain Pen with 18K gold nib in wooden presentation box. Rec'd—12/9/2018. Est. value—$700.00. Disposition—Pending official display | His Majesty Abdullah II bin Al-Hussein, King of Jordan | Non-acceptance would cause embarrassment to donor and U.S. Government.
The Honorable Kirstjen Nielsen, Secretary of Homeland Security | 18K gold name pendant “Kirstjen” with 18″ 18K gold chain. Rec'd—12/11/2018. Est. value—$460.00. Disposition—Pending GSA transfer | His Excellency Younis al Masry, Minister of Civil Aviation of the Egyptian Air Forces | Non-acceptance would cause embarrassment to donor and U.S. Government.
The Honorable Kirstjen Nielsen, Secretary of Homeland Security | Cashmere Khaki/Black Giant Checked Burberry Scarf. Rec'd—12/24/2018. Est. value—$430.00. Disposition—Pending GSA transfer | Brigadier General Mohammed Al Nasser, Security Attaché, Embassy of Qatar to the United States | Non-acceptance would cause embarrassment to donor and U.S. Government.
Mr. Christopher Alexander, Deputy Priority Services, Cybersecurity and Infrastructure Security Agency (CISA) | TRAVEL: Round Trip Flight up to $2805.64 and hotel accommodations near NATO HQ at $160 per night. Rec'd—9/25/2018. Est. value—$3,445.64. Disposition—CISA | North Atlantic Treaty Organization Headquarters, Brussels, Belgium | Non-acceptance would cause embarrassment to donor and U.S. Government.

Agency: The Department of Commerce
[Report of Tangible Gifts Furnished by the Department of Commerce]
Name and title of person accepting the gift on behalf of the U.S. Government | Gift, date of acceptance on behalf of the U.S. Government, estimated value, and current disposition or location | Identity of foreign donor and government | Circumstances justifying acceptance
The Honorable Wilbur L. Ross, Secretary of Commerce | Handmade ceramic and framed artwork. Rec'd—10/9/2017. Est. value—$600.00. Disposition—purchased by the Secretary from GSA | His Excellency Somkid Jatusripitak, Deputy Prime Minister of Thailand | Non-acceptance would cause embarrassment to donor and U.S. Government.
The Honorable Wilbur L. Ross, Secretary of Commerce | Samarkand-Bukara Silk Carpet in large green velvet box. Rec'd—6/15/2018. Disposition—Secretary's vault awaiting decision on final disposition | His Excellency Shavkat Mirziyoyev, President of Uzbekistan | Non-acceptance would cause embarrassment to donor and U.S. Government.

Agency: The Department of Justice
[Report of Travel and Report of Tangible Gifts Furnished by the Department of Justice]
Name and title of person accepting the gift on behalf of the U.S. Government | Gift, date of acceptance on behalf of the U.S. Government, estimated value, and current disposition or location | Identity of foreign donor and government | Circumstances justifying acceptance
The Honorable Jefferson B. Sessions III, Attorney General | Iranian hand-knotted silk carpet. Rec'd—1/19/2018. Est. value—$600.00. Disposition—To JMD property for GSA excess 2/23/2018 | His Excellency Dr. Ali Bin Mohsen Bin Fetais Al Marri, Attorney General of Qatar | Non-acceptance would cause embarrassment to donor and U.S. Government.
The Honorable Jefferson B. Sessions III, Attorney General | Graf Von Faber Castell Pen w/case. Rec'd—3/14/2018. Est. value—$425.00. Disposition—To JMD property for GSA excess 5/8/2018 | Her Excellency Aurelia Frick, Minister of Justice, and Minister of Foreign Affairs of Liechtenstein | Non-acceptance would cause embarrassment to donor and U.S. Government.
Mr. Ameet Kabrawala, Resident Legal Advisor | TRAVEL: Presentation by invitation. Rec'd—12/2/2018. Est. value—$800.00. Disposition—N/A | Mr. Andris Kairis, EU Funds Project Manager, Latvian School of Public Administration, Latvia | Non-acceptance would cause embarrassment to donor and U.S. Government.
Ms. Helen Chrisodoulou, Trial Attorney | TRAVEL: FBI Training Program. Rec'd—3/1/2018. Est. value—$1,750.00. Disposition—N/A | La Comisión Federal de Competencia Economica, Mexico | Non-acceptance would cause embarrassment to donor and U.S. Government.
Mr. Benjamin Sirota, Trial Attorney | TRAVEL: Cartel training. Rec'd—Trip Cancelled. Est. value—$1,350.00. Disposition—N/A | La Comisión Federal de Competencia Economica, Mexico | Non-acceptance would cause embarrassment to donor and U.S. Government.
Ms. Katherine Stella, Special Counsel | TRAVEL: Cartel training. Rec'd—3/3/2018. Est. value—$1,350.00. Disposition—N/A | La Comisión Federal de Competencia Economica, Mexico | Non-acceptance would cause embarrassment to donor and U.S. Government.
Mr. Eric Meiring, Assistant Section Chief | TRAVEL: Cartel training. Rec'd—7/5/2018. Est. value—$1,593.43. Disposition—N/A | Ireland's Competition and Consumer Protection Commission, Ireland | Non-acceptance would cause embarrassment to donor and U.S. Government.
Mr. Jesus Alvarado-Rivera, International Counsel | TRAVEL: Attorney Client Privilege. Rec'd—7/5/2018. Est. value—$1,496.00. Disposition—N/A | La Comisión Federal de Competencia Economica, Mexico | Non-acceptance would cause embarrassment to donor and U.S. Government.
Mr. Patrick Greenlee, Trial Attorney | TRAVEL: Korean Fair Trade Commission. Rec'd—9/25/2018. Est. value—$1,956.00. Disposition—N/A | 2018 Seoul International Seminar on Economic Analysis of Competition Policy | Non-acceptance would cause embarrassment to donor and U.S. Government.

Agency: The Department of Transportation
[Report of Gift of Travel Furnished by the Department of Transportation]
Name and title of person accepting the gift on behalf of the U.S. Government | Gift, date of acceptance on behalf of the U.S. Government, estimated value, and current disposition or location | Identity of foreign donor and government | Circumstances justifying acceptance
Mr. Brian Hedberg, Director of International Aviation, Office of the Secretary | TRAVEL: 3 nights of lodging. Rec'd—1/30/2018. Est. value—$3,150.00. Disposition—N/A | CAPA-Centre of Aviation | Non-acceptance would cause embarrassment to donor and U.S. Government.
Dr. Shashi Kumar, Deputy AA for National Coordinator/MET, Maritime Administration | TRAVEL: Speak on a panel hosted by the Korean government in Busan, Korea. Rec'd—3/1/2018. Est. value—$2,931.00. Disposition—N/A | The Republic of Korea | Non-acceptance would cause embarrassment to donor and U.S. Government.
Mr. Tony Padilla, Senior Advisor, Office of International Activities, Maritime Administration | TRAVEL: Speak on a panel hosted by the Korean government in Busan, Korea. Rec'd—3/1/2018. Est. value—$2,931.00. Disposition—N/A | The Republic of Korea | Non-acceptance would cause embarrassment to donor and U.S. Government.
Mr. Tony Padilla, Senior Advisor, Office of International Activities, Maritime Administration | TRAVEL: Speak on a panel in Assam, India co-hosted by the Government of India and the World Bank. Rec'd—1/31/2018. Est. value—$2,800.00. Disposition—N/A | The World Bank | Non-acceptance would cause embarrassment to donor and U.S. Government.

Agency: The Department of the Treasury
[Report of Tangible Gifts Furnished by the Department of the Treasury]
Name and title of person accepting the gift on behalf of the U.S. Government | Gift, date of acceptance on behalf of the U.S. Government, estimated value, and current disposition or location | Identity of foreign donor and government | Circumstances justifying acceptance
The Honorable Steven T. Mnuchin, Secretary of the Treasury | Iranian Hand Knotted Carpet. Rec'd—3/5/18. Est. value—$899.00. Disposition—Pending Transfer to GSA | His Excellency Dr. Ali Bin Mohsen Bin Fetais Al Marri, Attorney General of Qatar | Non-acceptance would cause embarrassment to donor and U.S. Government.

Agency: Environmental Protection Agency
[Report of Tangible Gifts Furnished by the Environmental Protection Agency]
Name and title of person accepting the gift on behalf of the U.S. Government | Gift, date of acceptance on behalf of the U.S. Government, estimated value, and current disposition or location | Identity of foreign donor and government | Circumstances justifying acceptance
Dr. Neil Chernoff, Toxicology Assessment Division, Office of Research and Development, Environmental Protection Agency | TRAVEL: Travel expenses accepted included meals, local transportation, incidental expenses while in Geneva, Switzerland. EPA authorized acceptance of the cash reimbursement pursuant to exception in the Foreign Gifts and Decorations Act at 5 USC § 7342(c)(1)(B)(ii). Rec'd—01/16/18. Est. value—$1,251.00. Disposition—N/A | World Health Organization, United Nations | Non-acceptance would cause embarrassment to donor and U.S. Government.
Dr. Serena Chung, Environmental Engineer, National Center for Environmental Research, Environmental Protection Agency | TRAVEL: Travel expenses of $672.80 for meals while in Singapore were accepted. EPA authorized acceptance of the cash reimbursement pursuant to exception in the Foreign Gifts and Decorations Act at 5 USC § 7342(c)(1)(B)(ii). Rec'd—2/17/18. Est. value—$672.80. Disposition—N/A | United Nations Environment Programme | Non-acceptance would cause embarrassment to donor and U.S. Government.
Mr. Vincent Cogliano, Health Risk Assessment Scientist, Office of Research and Development, Environmental Protection Agency | TRAVEL: Reimbursement under the Foreign Gifts and Decorations Act (5 USC 7342) in the amount of 170 euros/day to cover hotel, meals, local transportation, and other expenses incidental to participating on an advisory group that met in Lyon, France. EPA authorized acceptance of the cash reimbursement pursuant to exception in the Foreign Gifts and Decorations Act at 5 USC § 7342(c)(1)(B)(ii). Rec'd—11/12/18. Est. value—$960.00. Disposition—N/A | World Health Organization, International Agency for Research on Cancer, Lyon, France | Non-acceptance would cause embarrassment to donor and U.S. Government.
Mr. Phillip G. Dickerson, Jr., Group Leader, Office of Air Quality Planning and Standards (OAQPS), Environmental Protection Agency | TRAVEL: 20% of Daily Subsistence Allowance (DSA) accepted for six days—one travel day and five work days at standard rate for duty station in Singapore. Total received in US dollars was $672.80. The 20% figure is UN policy when hotel and meals are directly covered for all participants, leaving only incidentals. EPA authorized acceptance of the cash reimbursement pursuant to exception in the Foreign Gifts and Decorations Act at 5 USC § 7342(c)(1)(B)(ii). Rec'd—2/19/18. Est. value—$672.80. Disposition—N/A | United Nations Environment Programme | Non-acceptance would cause embarrassment to donor and U.S. Government.
Mr. Michael Doherty, Chemist, Office of Pesticide Programs, Environmental Protection Agency | TRAVEL: Expenses accepted for ground transportation, meals, and daily expenses while in Geneva, Switzerland. EPA authorized acceptance of the cash reimbursement pursuant to exception in the Foreign Gifts and Decorations Act at 5 USC § 7342(c)(1)(B)(ii). Rec'd—11/20/18. Est. value—$1,030.24. Disposition—N/A | Food and Agriculture Organization of the United Nations | Non-acceptance would cause embarrassment to donor and U.S. Government.
Mr. Michael Doherty, Chemist, Office of Pesticide Programs, Environmental Protection Agency | TRAVEL: Expenses accepted for ground transportation, meals, and daily expenses while in Berlin, Germany. EPA authorized acceptance of the cash reimbursement pursuant to exception in the Foreign Gifts and Decorations Act at 5 USC § 7342(c)(1)(B)(ii). Rec'd—10/24/18. Est. value—$479.00. Disposition—N/A | Food and Agriculture Organization of the United Nations | Non-acceptance would cause embarrassment to donor and U.S. Government.
Dr. Jason Fritz, Ph.D., Associate for Chemical Assessment, Toxicity Pathways Branch, Office of Research and Development, Environmental Protection Agency | TRAVEL: Travel expenses accepted included meals and transportation expenses ($966.10), and lodging ($1050.90), while in Lyon, France. EPA authorized acceptance of the cash reimbursement pursuant to exception in the Foreign Gifts and Decorations Act at 5 USC § 7342(c)(1)(B)(ii). Rec'd—9/18/18. Est. value—$2,477.04. Disposition—N/A | International Agency for Research on Cancer/World Health Organization | Non-acceptance would cause embarrassment to donor and U.S. Government.
Dr. Keith Houck, Ph.D., Research Toxicologist, National Center for Computational Toxicology, Environmental Protection Agency | TRAVEL: Travel expenses accepted included meals, transportation, incidental expenses ($1092.00) and lodging ($817.60) while in Lyon, France. EPA authorized acceptance of the cash reimbursement pursuant to exception in the Foreign Gifts and Decorations Act at 5 USC § 7342(c)(1)(B)(ii). Rec'd—6/4/18. Est. value—$1,909.60. Disposition—N/A | Dr. Kurt Straif, MD, PhD, Head, International Agency for Research on Cancer (IARC), Monographs Section, World Health Organization, France | Non-acceptance would cause embarrassment to donor and U.S. Government.
Dr. Terry Keating, Senior Scientist, National Center for Environmental Research, Environmental Protection Agency | TRAVEL: Travel expenses of $672.80 for meals while in Singapore were accepted. EPA authorized acceptance of the cash reimbursement pursuant to exception in the Foreign Gifts and Decorations Act at 5 USC § 7342(c)(1)(B)(ii). Rec'd—2/16/18. Est. value—$672.80. Disposition—N/A | United Nations Environment Programme | Non-acceptance would cause embarrassment to donor and U.S. Government.
Dr. Terry Keating, Senior Scientist, National Center for Environmental Research, Environmental Protection Agency | TRAVEL: Travel expenses of $499 for daily subsistence allowance while in Cancun, Mexico were accepted. EPA authorized acceptance of the cash reimbursement pursuant to exception in the Foreign Gifts and Decorations Act at 5 USC § 7342(c)(1)(B)(ii). Rec'd—9/25/18. Est. value—$499.00. Disposition—N/A | United Nations Environment Programme | Non-acceptance would cause embarrassment to donor and U.S. Government.
Mr. Leonid Kopylev, Mathematical Statistician, Office of Research and Development, Environmental Protection Agency | TRAVEL: Travel expenses accepted included meals, incidental expenses (e.g., laundry) ($1156), transportation ($115) and lodging ($750) while in Lyon, France. EPA authorized acceptance of the cash reimbursement pursuant to exception in the Foreign Gifts and Decorations Act at 5 USC § 7342(c)(1)(B)(ii). Rec'd—10/8/18. Est. value—$2,021.00. Disposition—N/A | World Health Organization/International Agency for Research on Cancer | Non-acceptance would cause embarrassment to donor and U.S. Government.
Dr. Thomas Luben, Senior Epidemiologist, National Center for Environmental Assessment, Office of Research and Development, Environmental Protection Agency | TRAVEL: Travel expenses accepted included meals, local transportation (while in Germany), incidental expenses ($764.25), and lodging ($535.75) while in Bonn, Germany. EPA authorized acceptance of the cash reimbursement pursuant to exception in the Foreign Gifts and Decorations Act at 5 USC § 7342(c)(1)(B)(ii). Rec'd—3/12/18. Est. value—$1,300.00. Disposition—N/A | World Health Organization, European Centre for Environment and Health | Non-acceptance would cause embarrassment to donor and U.S. Government.
Mr. Paul Michael Randall, Senior Chemical Engineer, Environmental Protection Agency | TRAVEL: UNIDO picks up out of pocket expenses such as hotel, and in-country expenses. Travel expenses included: 3 nights lodging ($842) and the ground transportation of $230 dollars. EPA authorized acceptance of the cash reimbursement pursuant to exception in the Foreign Gifts and Decorations Act at 5 USC § 7342(c)(1)(B)(ii). Rec'd—2/5/18. Est. value—$1,072.00. Disposition—N/A | United Nations Industrial Development Organization | Non-acceptance would cause embarrassment to donor and U.S. Government.
Mr. Jon Richards, Radiation Expert, Region 4, Superfund Division, Environmental Protection Agency | TRAVEL: Travel expenses accepted included meals [$300], transportation, incidental expenses and lodging [$1200] while in Vienna, Austria. EPA authorized acceptance of the cash reimbursement pursuant to exception in the Foreign Gifts and Decorations Act at 5 USC § 7342(c)(1)(B)(ii). Rec'd—10/21/18. Est. value—$1,500.00. Disposition—N/A | International Atomic Energy Agency | Non-acceptance would cause embarrassment to donor and U.S. Government.
Dr. Prakashchandra V. Shah, Chief, IIAB, Registration Division, OPP, OSCPP, Environmental Protection Agency | TRAVEL: $4,288 direct deposit in the bank account for meals, hotel, local transportations, transportation to/from airports, and other incidental expenses while in Geneva, Switzerland. EPA authorized acceptance of the cash reimbursement pursuant to exception in the Foreign Gifts and Decorations Act at 5 USC § 7342(c)(1)(B)(ii). Rec'd—9/15/18. Est. value—$4,288.00. Disposition—N/A | World Health Organization, Geneva, Switzerland | Non-acceptance would cause embarrassment to donor and U.S. Government.
Mr. Anthony Socci, Senior Lead on International Resilience & Adaptation Policy, EPA Office of International & Tribal Affairs, Environmental Protection Agency | TRAVEL: Travel expenses accepted included meals and incidentals ($555.00) while in Abu Dhabi, UAE. EPA authorized acceptance of the cash reimbursement pursuant to exception in the Foreign Gifts and Decorations Act at 5 USC § 7342(c)(1)(B)(ii). Rec'd—3/18/18. Est. value—$555.00. Disposition—N/A | United Nations | Non-acceptance would cause embarrassment to donor and U.S. Government.
Mr. Hugh J. Sullivan, Environmental Protection Specialist, Office of Water, Environmental Protection Agency | TRAVEL: Travel expenses accepted included meals, and incidental expenses (e.g., internet access) ($541.50), lodging ($247.50) and local transportation (188.00) while in Panama City, Panama. Rec'd—7/15/18. Est. value—$977.00. Disposition—N/A | Secretariat of the Cartagena Convention, United Nations Environment Programme Caribbean Environment Programme | Non-acceptance would cause embarrassment to donor and U.S. Government.
Mr. Rogelio Tornero-Velez, Research Physical Scientist, Office of Research and Development, Environmental Protection Agency | TRAVEL: Lodging, meals & incidentals: 1,800 Euro ($2,124 USD) while in Lyon, France. EPA authorized acceptance of the cash reimbursement pursuant to exception in the Foreign Gifts and Decorations Act at 5 USC § 7342(c)(1)(B)(ii). Rec'd—3/18/18. Est. value—$2,124.00. Disposition—N/A | International Agency for Research on Cancer (IARC) | Non-acceptance would cause embarrassment to donor and U.S. Government.
Mrs. Julie Van Alstine, Chemist, Office of Pesticide Programs, Environmental Protection Agency | TRAVEL: Expenses accepted for ground transportation, meals, and daily expenses while in Berlin, Germany. EPA authorized acceptance of the cash reimbursement pursuant to exception in the Foreign Gifts and Decorations Act at 5 USC § 7342(c)(1)(B)(ii). Rec'd—8/28/18. Est. value—$2,473.51. Disposition—N/A | Food and Agriculture Organization of the United Nations | Non-acceptance would cause embarrassment to donor and U.S. Government.
Mr. Timothy J. Wade, Branch Chief, Epidemiology Branch, Office of Research and Development, Environmental Protection Agency | TRAVEL: Travel expenses included meals, in-country transportation, incidentals ($406.89) and lodging ($836.11) while in Geneva, Switzerland. EPA authorized acceptance of the cash reimbursement pursuant to exception in the Foreign Gifts and Decorations Act at 5 USC § 7342(c)(1)(B)(ii). Rec'd—1/22/18. Est. value—$1,243.00. Disposition—N/A | The World Health Organization | Non-acceptance would cause embarrassment to donor and U.S. Government.

Agency: Office of the Director of National Intelligence
[Report of Tangible Gifts Furnished by the Office of the Director of National Intelligence]
Name and title of person accepting the gift on behalf of the U.S. Government | Gift, date of acceptance on behalf of the U.S. Government, estimated value, and current disposition or location | Identity of foreign donor and government | Circumstances justifying acceptance
5 U.S.C. 7342(f)(4) | Cased porcelain 6-piece coffee/tea set with double head eagle crest; together with 0.5 liter standard vodka in fitted case. Rec'd—1/25/2018. Est. value—$500.00. Disposition—For official use | 5 U.S.C. 7342(f)(4) | Non-acceptance would cause embarrassment to donor and U.S. Government.
5 U.S.C. 7342(f)(4) | Red ground hand-woven rug, 12 feet by 9 feet; together with a silver mounted polychrome ceramic plate in a leather case, and a red and green gilt metal shield-shaped plaque with engraving, mounted on olive wood. Rec'd—9/14/2019. Est. value—$650.00. Disposition—For official use | 5 U.S.C. 7342(f)(4) | Non-acceptance would cause embarrassment to donor and U.S. Government.
5 U.S.C. 7342(f)(4) | TRAVEL: Lodging. Rec'd—7/25/2018. Est. value—$2,994.59. Disposition—N/A | 5 U.S.C. 7342(f)(4) | Non-acceptance would cause embarrassment to donor and U.S. Government.
5 U.S.C. 7342(f)(4) | TRAVEL: Lodging. Rec'd—11/1/2018. Est. value—$898.42. Disposition—N/A | 5 U.S.C. 7342(f)(4) | Non-acceptance would cause embarrassment to donor and U.S. Government.

Agency: Smithsonian Institution
[Report of Tangible Gifts Furnished by the Smithsonian Institution]
Name and title of person accepting the gift on behalf of the U.S. Government | Gift, date of acceptance on behalf of the U.S. Government, estimated value, and current disposition or location | Identity of foreign donor and government | Circumstances justifying acceptance
Mr. Scott Rosenfeld, Lighting Designer | TRAVEL: Honorarium for presenting at LMLCS 2018 paper on recent trends in museum lighting. Rec'd—10/19/2018. Est. value—$851.00. Disposition—Deposited in 402-0000-040216-530700 | 2018 Heritage Korea, The Republic of Korea | Non-acceptance would cause embarrassment to donor and U.S. Government.
Mr. Scott Rosenfeld, Lighting Designer | TRAVEL: Round trip airfare to Korea and lodging for conference. Rec'd—9/12/2018. Est. value—$1,920.00. Disposition—N/A | 2018 Heritage Korea, The Republic of Korea | Non-acceptance would cause embarrassment to donor and U.S. Government.

Agency: United States Agency of International Development
[Report of Gifts of Travel Furnished by USAID]
Name and title of person accepting the gift on behalf of the U.S. Government | Gift, date of acceptance on behalf of the U.S. Government, estimated value, and current disposition or location | Identity of foreign donor and government | Circumstances justifying acceptance
Ms. Julie Hulama, USAID Papua New Guinea | TRAVEL: USD $390 gift of travel. Rec'd—8/12/2018. Est. value—$390.00. Disposition—N/A | James Cook University, Australia | Non-acceptance would cause embarrassment to donor and U.S. Government.

Agency: United States House of Representatives
[Report of Tangible Gifts and Gifts of Travel Furnished by the U.S. House of Representatives]
Name and title of person accepting the gift on behalf of the U.S. Government | Gift, date of acceptance on behalf of the U.S. Government, estimated value, and current disposition or location | Identity of foreign donor and government | Circumstances justifying acceptance
The Honorable Paul Ryan, Speaker of the House | Set of Cristofle silver plated bookends. Rec'd—4/25/2018. Est. value—$700.00. Disposition—Transferred to the Office of the Clerk | His Excellency Emmanuel Macron, President of France | Non-acceptance would cause embarrassment to donor and U.S. Government.
The Honorable David Valadao, U.S. House of Representatives | Decoration identifying Rep. Valadao as an inductee to the Order of Prince Henry. Rec'd—6/11/2018. Est. value—$942.00. Disposition—On official display | His Excellency Vasco Cordeiro, President of the Regional Government of the Azores, Portugal | Non-acceptance would cause embarrassment to donor and U.S. Government.
Mr. Timothy Huebner, Legislative Assistant, U.S. House of Representatives | TRAVEL: Lodging, food, and per diem. Rec'd—6/29/2018. Est. value—Unknown. Disposition—N/A | CBBSX 2018 Hosts, Germany | Non-acceptance would cause embarrassment to donor and U.S. Government.
Ms. Kelliann Blazek, Counsel, Rep. Chellie Pingree, U.S. House of Representatives | TRAVEL: 4 night's hotel accommodations in Denmark, meals, and private transportation in country. Rec'd—9/23/2018. Est. value—$1,307.00. Disposition—N/A | Andrew Kessler, Senior Commercial Advisor, Danish Trade Council, Denmark | Non-acceptance would cause embarrassment to donor and U.S. Government.
Mr. Warren Burke, Counsel, Office of Legislative Counsel, U.S. House of Representatives | TRAVEL: Lodging, food, and per diem. Rec'd—6/29/2018. Est. value—Unknown. Disposition—N/A | CBBSX 2018 Hosts, Germany | Non-acceptance would cause embarrassment to donor and U.S. Government.
Mr. Venkatasatya Varum Krovi, Deputy Chief of Staff and Legislative Director, U.S. House of Representatives | TRAVEL: Lodging, food, and per diem. Rec'd—6/29/2018. Est. value—Unknown. Disposition—N/A | CBBSX 2018 Hosts, Germany | Non-acceptance would cause embarrassment to donor and U.S. Government.
Mr. Donald Davidson, Legislative Director, Rep. Sam Johnson, U.S. House of Representatives | TRAVEL: Lodging, food, and per diem. Rec'd—6/29/2018. Est. value—Unknown. Disposition—N/A | CBBSX 2018 Hosts, Germany | Non-acceptance would cause embarrassment to donor and U.S. Government.
Mr. Angel Nigaglioni, Legislative Director and Counsel, Rep. Jose Serrano, U.S. House of Representatives | TRAVEL: Lodging, food, and per diem. Rec'd—6/29/2018. Est. value—Unknown. Disposition—N/A | CBBSX 2018 Hosts, Germany | Non-acceptance would cause embarrassment to donor and U.S. Government.
Ms. Katherine Schisler, Legislative Assistant, U.S. House of Representatives | TRAVEL: Lodging, food, and per diem. Rec'd—6/29/2018. Est. value—Unknown. Disposition—N/A | CBBSX 2018 Hosts, Germany | Non-acceptance would cause embarrassment to donor and U.S. Government.

Agency: United States Senate
[Report of Tangible Gifts Furnished by the United States Senate]
Name and title of person accepting the gift on behalf of the U.S. Government | Gift, date of acceptance on behalf of the U.S. Government, estimated value, and current disposition or location | Identity of foreign donor and government | Circumstances justifying acceptance
The Honorable Cory A. Booker, United States Senator | Moldovan aged cognac. Rec'd—12/6/2017. Est. value—$177.35. Disposition—Secretary of the Senate | His Excellency Andrian Candu, Speaker of the Parliament of Moldova | Non-acceptance would cause embarrassment to donor and U.S. Government.
The Honorable Christopher A. Coons, United States Senator | Moldovan scotch, and collection of Moldovan stamps. Rec'd—12/6/2017. Est. value—$277.35. Disposition—Secretary of the Senate | His Excellency Andrian Candu, Speaker of the Parliament of Moldova | Non-acceptance would cause embarrassment to donor and U.S. Government.
The Honorable Lindsey Graham, United States Senator | Qatari rug. Rec'd—1/18/2018. Est. value—$3,000.00. Disposition—Secretary of the Senate | His Excellency Dr. Ali Bin Mohsen Bin Fetais Al Marri, Attorney General of Qatar | Non-acceptance would cause embarrassment to donor and U.S. Government.
The Honorable Catherine Cortez Masto, United States Senator | W.Kruk silver bracelet with amber. Rec'd—1/18/2018. Est. value—$175.14. Disposition—Secretary of the Senate | Her Excellency Anna Maria Anders, Senator, Poland | Non-acceptance would cause embarrassment to donor and U.S. Government.
The Honorable Tom Cotton, United States Senator | Cased dagger and photo album of meeting. Rec'd—2/18/2018. Est. value—$150.00. Disposition—Russell Senate Office Building Room 116 | His Excellency Lt. General Janab Al Sayyid Munthir bin Majid Al Said, Head of Communications and Coordination at the Royal Office, Government of Oman | Non-acceptance would cause embarrassment to donor and U.S. Government.
The Honorable Jack Reed, United States Senator | Replica of the Tree of Life in mosaic in Madaba, and Book: The Mosaics of Jordan. Rec'd—2/23/2018. Est. value—$337.00. Disposition—Secretary of the Senate | His Majesty King Abdullah II bin Al-Hussein, King of Jordan | Non-acceptance would cause embarrassment to donor and U.S. Government.
The Honorable Dan Sullivan, United States Senator | Stainless steel watch, and gold relief sculpture of eagle. Rec'd—4/26/2018. Est. value—$270.00. Disposition—Secretary of the Senate | His Excellency Yen Teh-fa, Minister of National Defense of Taiwan | Non-acceptance would cause embarrassment to donor and U.S. Government.
The Honorable Mitch McConnell, United States Senator | Silver Tray. Rec'd—6/19/2018. Est. value—$146.00. Disposition—Secretary of the Senate | His Majesty King Felipe VI, King of Spain | Non-acceptance would cause embarrassment to donor and U.S. Government.
The Honorable Joni Ernst, United States Senator | Customized watch with a silver face and black band. Rec'd—8/31/2018. Est. value—$224.00. Disposition—Secretary of the Senate | His Excellency Petro Poroshenko, President of Ukraine | Non-acceptance would cause embarrassment to donor and U.S. Government.
The Honorable Jack Reed, United States Senator | Yedameun spoon and chopsticks; Bronze tableware set. Rec'd—10/2/2018. Est. value—$110.28. Disposition—Secretary of the Senate | Mr. Ihk-pyo Hong, Member of the National Assembly, Republic of Korea | Non-acceptance would cause embarrassment to donor and U.S. Government.
The Honorable Edward J. Markey, United States Senator | Yedameun spoon and chopsticks; Bronze tableware set. Rec'd—12/20/2018. Est. value—$129.00. Disposition—Secretary of the Senate | His Excellency Cho Yoon-Je, Ambassador of The Republic of Korea to the United States | Non-acceptance would cause embarrassment to donor and U.S. Government.
Mr. Matthew Lampert, Professional Staff Member, Committee on Armed Services | Four wallets. Key ring, Cufflinks, and Tie clip. Rec'd—1/19/2018. Est. value—$115.00. Disposition—Secretary of the Senate | Lieutenant General Muhammad Afzal, Pakistan Army | Non-acceptance would cause embarrassment to donor and U.S. Government.
Ms. Laura Vincent, Scheduler, Office of Senator Mitch McConnell | Money clip featuring the Raghadan Palace. Rec'd—6/26/2018. Est. value—$50.00. Disposition—Secretary of the Senate | Their Majesties King Abdullah II bin Al-Hussein and Queen Rania Al Abdullah of Jordan | Non-acceptance would cause embarrassment to donor and U.S. Government.

[FR Doc. 2020-03722 Filed 2-24-20; 8:45 am]

BILLING CODE 4710-20-P